INTERNATIONAL TRADE COMMISSION

[Inv. No. 337-TA-512]

Certain Light-Emitting Diodes and Products Containing Same; Notice of Commission Decision not to Review an Initial Determination Amending the Complaint and Notice of Investigation

AGENCY: International Trade Commission.

ACTION: Notice.

SUMMARY: Notice is hereby given that the U.S. International Trade Commission has determined not to review the presiding administrative law judge's (“ALJ's”) initial determination (“ID”) (Order No. 13) amending the complaint and notice of investigation to add additional claims of three asserted patents.

FOR FURTHER INFORMATION CONTACT: Wayne Herrington, Esq., Office of the General Counsel, U.S. International Trade Commission, 500 E Street, SW., Washington, DC 20436, telephone (202) 205-3090. Copies of the public version of the ALJ's ID and all other nonconfidential documents filed in connection with this investigation are or will be available for inspection during official business hours (8:45 a.m. to 5:15 p.m.) in the Office of the Secretary, U.S. International Trade Commission, 500 E Street, SW., Washington, DC 20436, telephone 202-205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on 202-205-1810.

SUPPLEMENTARY INFORMATION: The Commission instituted this investigation on June 10, 2004, based on a complaint filed by OSRAM GmbH and OSRAM Opto Semiconductors GmbH, both of Germany. 69 FR 32609 (June 10, 2004). The complaint, as supplemented, alleged violations of section 337 of the Tariff Act of 1930 in the importation into the United States, the sale for importation, and the sale within the United States after importation of certain light-emitting diodes and products containing same by reason of infringement of claims 1, 3, 6, 7, and 10-13 of U.S. Patent No. 6,066,861; claims 1, 3, 6, 7, 10-13, and 15 of U.S. Patent No. 6,245,259; claims 1-2, 6-7, 11-12, and 15 of U.S. Patent No. 6,277,301 (“the '301 patent”); claims 1, 5-10, and 13-16 of U.S. Patent No. 6,376,902; claims 1 and 5-8 of U.S. Patent No. 6,469,321; claims 1, 5-8, 10-13, and 16-19 of U.S. Patent No. 6,573,580; claim 4 of U.S. Patent No. 6,576,930 (“the '930 patent”); claims 2-5, 7, and 10 of U.S. Patent No. 6,592,780; and claims 1, 3, 6-7, 10, 12-15, 17, and 21 of U.S. Patent No. 6,613,247 (“the '247 patent”). The complaint and notice of investigation named three respondents, including respondent Dominant Semiconductors Sdn. Bhd. (“Dominant”). The investigation has been terminated as to the other two respondents.

On August 11, 2004, the Commission issued notice that it had determined not to review the ALJ's initial determination amending the complaint and notice of investigation to assert claims 1-3 and 5 of U.S. Patent No. 6,716,673 against Dominant.

On October 5, 2004, complainants filed a motion pursuant to Commission rule 210.14 to amend the complaint and notice of investigation to assert claims 2-3 of the '930 patent, claim 14 of the '301 patent, and claims 11 and 20 of the '247 patent against Dominant, representing that Dominant did not oppose the motion. The Commission investigative attorney supported the motion. On October 19, 2004, the ALJ issued the subject ID granting complainants' motion. No petitions for review of the ID were filed.

The authority for the Commission's determination is contained in section 337 of the Tariff Act of 1930, as amended (19 U.S.C. 1337), and in section 210.42 of the Commission's Rules of Practice and Procedure (19 CFR 210.42).

Issued: November 12, 2004.
By order of the Commission.
Marilyn R. Abbott,
Secretary to the Commission.

[FR Doc. 04-25498 Filed 11-16-04; 8:45 am]

BILLING CODE 7020-02-P